SURFACE TRANSPORTATION BOARD

[Docket No. FD 36542]

NCSR, LLC d/b/a New Castle Southern Railroad—Lease and Operation Exemption With Interchange Commitment—Norfolk Southern Railway Company

NCSR, LLC d/b/a New Castle Southern Railroad (NCSR), a noncarrier, has filed a verified notice of exemption pursuant to 49 CFR 1150.31 to lease from Norfolk Southern Railway Company (NSR) and operate approximately 21 miles of rail line extending from milepost CB 5.40 at Beesons, Ind., to milepost CB 25.30 at New Castle, Ind., and from milepost R 0.09 to milepost R 1.16 at New Castle (the Line).

According to the verified notice, NCSR and NSR have recently reached a lease agreement pursuant to which NCSR will provide common carrier rail service on the Line. According to NCSR, the agreement between NCSR and NSR contains an interchange commitment that affects the interchange point at Beesons.¹ The verified notice states that NSR and Big Four Terminal Railroad, LLC, are the carriers that could physically interchange with NCSR at Beesons. As required under 49 CFR 1150.33(h), NCSR provided additional information regarding the interchange commitment.

¹ A copy of the agreement with the interchange commitment was submitted under seal. See 49 CFR 1150.33(h)(1).

NCSR has certified that its projected annual revenues will not exceed $5 million and will not result in NCSR's becoming a Class I or Class II rail carrier.

Pursuant to 49 CFR 1150.32(b), the effective date of an exemption is 30 days after the verified notice of exemption is filed, which here would be September 22, 2021. However, concurrently with its verified notice, NCSR filed a petition to partially waive the 30-day effectiveness period to allow the exemption to become effective on September 13, 2021. The Board will address NCSR's petition for partial waiver and establish the effective date of the exemption in a separate decision.

If the notice contains false or misleading information, the exemption is void ab initio. Petitions to revoke the exemption under 49 U.S.C. 10502(d) may be filed at any time. The filing of a petition to revoke will not automatically stay the effectiveness of the exemption. A deadline for petitions for stay will also be established in the Board's decision on the petition for partial waiver.

All pleadings, referring to Docket No. FD 36542, should be filed with the Surface Transportation Board via e-filing on the Board's website. In addition, one copy of each pleading must be served on NCSR's representative: Robert A. Wimbish, Fletcher & Sippel LLC, 29 North Wacker Drive, Suite 800, Chicago, IL 60606.

According to NCSR, this action is categorically excluded from environmental review under 49 CFR 1105.6(c) and from historic preservation reporting requirements under 49 CFR 1105.8(b).

Board decisions and notices are available at www.stb.gov.

Decided: September 1, 2021.
By the Board, Scott M. Zimmerman, Acting Director, Office of Proceedings.
Brendetta Jones,
Clearance Clerk.

[FR Doc. 2021-19309 Filed 9-7-21; 8:45 am]

BILLING CODE 4915-01-P